DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2017 Economic Census of Island Areas.

OMB Control Number: 0607-0937.

Form Number(s): IA-92101, IA-92103, IA-92104, IA-92301, IA-92303, IA-92304, IA-93101, IA-93103, IA-93104, IA-94201, IA-94203, IA-94204, IA-94401, IA-94403, IA-94404, IA-95101, IA-95103, IA-95104, IA-95201, IA-95203, IA-95204, IA-97201, IA-97203, IA-97204.

Type of Request: Reinstatement of a previously approved collection.

Number of Respondents: 51,072.

Average Hours per Response: 1 hour.

Burden Hours: 51,072.

Needs and Uses: The 2017 Economic Census of Island Areas uses direct data collection supplemented by data from Federal administrative records to compile statistics on approximately 51,000 business establishments in industries defined by the 2017 North American Industry Classification System (NAICS) operating in Puerto Rico, Guam, the Commonwealth of the Northern Mariana Islands, the U.S. Virgin Islands and American Samoa. The enumeration of business establishments located within the 50 states will be submitted separately to the Office of Management and Budget (OMB) for approval.

The Economic Census of Island Areas provides the only source of comprehensive data for the Island Areas at a geographic level similar to U.S. counties. It will produce basic statistics by industry for number of establishments, value of shipments/receipts/revenue/sales, payroll, and employment. It also will yield a variety of industry-specific statistics, depreciable assets, selected purchased services, inventories, and capital expenditures, value of shipments/receipts/revenue/sales by product line as defined by the North American Product Classification System (NAPCS), size of establishments, and other industry-specific measures.

Historically American Samoa, the Commonwealth of the Northern Mariana Islands, Guam, and the U.S. Virgin Islands each received only one general economic census questionnaire to cover all sectors. For the 2017 Economic Census of Island Areas, in an effort to provide all of the territories more complete and comparable data, American Samoa, the Commonwealth of the Northern Mariana Islands, Guam, and the Virgin Islands will receive eight sector group specific instruments, similar to what has been collected for Puerto Rico in prior censuses. The expanded content will cover the following sectors: Utilities, Transportation, and Warehousing; Construction; Manufacturing; Wholesale Trade; Retail Trade; Other Services; Finance, Insurance, Real Estate, Rental and Leasing; and Accommodation and Food Services. The use of forms tailored to the business sector allows for more detailed data collection that is not feasible using one form covering all sectors of the economy. However, the expanded content and additional questions on the sector driven instruments will increase the previous response time for American Samoa, the Commonwealth of the Northern Mariana Islands, Guam, and the Virgin Islands. The new response burden estimate was determined based on cognitive testing done in Puerto Rico, as the instruments are modeled after the forms Puerto Rico has been receiving.

The 2017 Economic Census of Island Areas will cover the following NAICS sectors of the U.S. economy:

• Mining, Quarrying, and Oil and Gas Extraction

• Utilities

• Construction

• Manufacturing

• Wholesale Trade

• Retail Trade

• Transportation and Warehousing

• Information

• Finance and Insurance

• Real Estate and Rental and Leasing

• Professional, Scientific and Technical Services

• Management of Companies and Enterprises

• Administrative and Support and Waste Management and Remediation Services

• Educational Services

• Health Care and Social Assistance

• Arts, Entertainment, and Recreation

• Accommodation and Food Services

• Other Services (except Public Administration)

Although some sectors do not have activity, they are not considered excluded from the Economic Census of Island Areas.

The economic census will produce basic statistics by industry for the number of establishments, value of shipments/receipts/revenue/sales, payroll, and employment. It also will yield a variety of industry-specific statistics, including expenses, depreciable assets, selected purchased services, inventories, and capital expenditures, value of shipments/receipts/revenue/sales by product line as defined by the North American Product Classification System (NAPCS), type of operation, size of establishments, and other industry-specific measures.

The Economic Census of Island Areas is the major source of information about the structure and functioning of the economies of each Island Area, and features the only recognized source of data at a geographic level similar to U.S. counties. Economic census statistics serve as part of the framework for the national accounts of the Island Areas and provides essential information for government, business, and the general public. The governments of the Island Areas and the Bureau of Economic Analysis (BEA) rely on the economic census as an important part of the framework for their income and product accounts, input-output tables, economic indices, and other composite measures that serve as the basis for economic policymaking, planning, and program administration. Further, the census provides benchmarks for surveys of businesses which track short-term economic trends, serve as economic indicators, and contribute critical source data for current estimates of the Gross Domestic Product (GDP) of the Island Areas. Finally, industry, business, academia, and the general public use information from the economic census for evaluating markets, preparing business plans, making business decisions, developing economic models and forecasts, conducting economic research, and establishing benchmarks for their own sample surveys.

If the Economic Census of Island Areas were not conducted, the Federal government would lose the only source of detailed comprehensive information of the economies of these areas. Additionally, the governments of the Island Areas would lose vital source data and benchmarks for their national accounts, input-output tables, and other composite measures of economic activity, causing a substantial degradation in the quality of these important statistics.

Affected Public: Businesses; Not-for-profit institutions; State, local or tribal governments.

Frequency: Every five years.

Respondent's Obligation: Mandatory.

Legal Authority: This information collection is part of the 2017 Economic Census, which is required by law under Title 13, United States Code (U.S.C.). Section 131 of this statute directs the taking of a census at 5-year intervals. Section 191 defines the geographic scope of the census to include the island areas and Section 224 makes reporting mandatory.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Departmental Lead, Office of the Chief Information Officer.

[FR Doc. 2017-04755 Filed 3-9-17; 8:45 am]

BILLING CODE 3510-07-P